DEPARTMENT OF THE INTERIOR

National Park Service

Notice of Intent to Repatriate Cultural Items: U.S. Department of the Interior, Bureau of Indian Affairs, Washington, DC and Wisconsin Historical Society, Museum Division, Madison, WI

AGENCY: National Park Service, Interior.

ACTION: Notice.

Notice is here given in accordance with the Native American Graves Protection and Repatriation Act, (NAGPRA), 25 U.S.C. 3005, of the intent to repatriate cultural items in the control of the U.S. Department of the Interior, Bureau of Indian Affairs, Washington, DC, and in the possession of the Wisconsin Historical Society, (aka State Historical Society of Wisconsin), Museum Division, Madison, WI, that meet the definition of unassociated funerary object under 25 U.S.C. 3001.

This notice is published as part of the National Park Service's administrative responsibilities under NAGPRA, 25 U.S.C. 3003(d)(3). The determinations in this notice are the sole responsibility of the museum, institution, or Federal agency that has control of the cultural items. The National Park Service is not responsible for the determinations in this notice.

In 1928, human remains and funerary objects were removed from at least two mounds located within the boundaries of the Menominee Indian Tribe Reservation, Menominee County (formerly Shawano County), WI, by Arthur P. Kannenberg and John V. Satterlee. The exact location of these mounds is not known. In 1950, the Wisconsin Historical Society, Museum Division, obtained the human remains, associated funerary objects, and unassociated funerary objects from the wife of Arthur P. Kannenberg. The human remains and associated funerary objects are described in a companion Notice of Inventory Completion. The 91 unassociated funerary objects are 89 earrings and earring fragments, and 2 silver brooches.

The Menominee Indian Reservation falls within the ancestral and historic territory of the Menominee people. Archeological investigation has uncovered additional historic burials in this area. Additionally, archeological research shows that earrings and brooches, similar to the ones mentioned above, are commonly found within historic Indian burials throughout the Great Lakes region. Furthermore, Menominee oral history states that the origin of the Menominee people began at the mouth of the Menominee River, which is approximately 60 miles from the present-day Menominee Reservation.

Officials of the Bureau of Indian Affairs and Wisconsin Historical Society, Museum Division, have determined that, pursuant to 25 U.S.C. 3001(3)(B), the 91 cultural items described above are reasonably believed to have been placed with or near individual human remains at the time of death or later as part of the death rite or ceremony and are believed, by a preponderance of the evidence, to have been removed from a specific burial site of a Native American individual. Officials of the Bureau of Indian Affairs and Wisconsin Historical Society, Museum Division, also have determined that, pursuant to 25 U.S.C. 3001(2), there is a relationship of shared group identity that can be reasonably traced between the unassociated funerary objects and the Menominee Indian Tribe of Wisconsin.

Representatives of any other Indian tribe that believes itself to be culturally affiliated with the unassociated funerary objects should contact Jennifer L. Kolb, Wisconsin Historical Museum, 30 N. Carroll St., Madison, WI 53703, telephone (608) 261-2461, before August 18, 2010. Repatriation of the unassociated funerary objects to the Menominee Indian Tribe of Wisconsin may proceed after that date if no additional claimants come forward.

The Wisconsin Historical Society, Museum Division, is responsible for notifying the Menominee Indian Tribe of Wisconsin that this notice has been published.

Dated: July 9, 2010
Sherry Hutt,
Manager, National NAGPRA Program.

[FR Doc. 2010-17476 Filed 7-16-10; 8:45 am]

BILLING CODE 4312-50-S